ENVIRONMENTAL PROTECTION AGENCY

40 CFR Part 52

[DC 045-2020b; FRL-6838-4]

Approval and Promulgation of Air Quality Implementation Plans; District of Columbia; Approval of National Low Emission Vehicle Program

AGENCY: Environmental Protection Agency (EPA).

ACTION: Proposed rule.

SUMMARY: EPA proposes to approve the State Implementation Plan (SIP) revision submitted by the District of Columbia which commits the District to accept sales of motor vehicle that comply with the requirements of the National Low Emission Vehicle (National LEV) Program that applies to newly manufactured motor vehicles sold in the District, starting with the 1999 model year. In the “Rules and Regulations” section of this Federal Register, EPA is approving the State's SIP submittal as a direct final rule without prior proposal because the Agency views this as a noncontroversial submittal and anticipates no adverse comments. A detailed rationale for the approval is set forth in the direct final rule. If we receive no adverse comments, we will not take further action on this proposed rule. If EPA does receive adverse comments, we will withdraw the related direct final rule and it will not take effect. We will address any public comments received in a subsequent final rule based on this proposed rule. EPA will not institute a second comment period. Any parties interested in commenting on this action must do so at this time.

DATES: Comments must be received in writing by August 21, 2000.

ADDRESSES: Written comments should be addressed to David L. Arnold, Chief, Ozone and Mobile Sources Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and at the District of Columbia Department of Public Health, Air Quality Division, 51 N Street, NE., Washington, DC 20002.

FOR FURTHER INFORMATION CONTACT: Brian Rehn, (215) 814-2176, at the EPA Region III address above, or by e-mail at: rehn.brian@epamail.epa.gov.

SUPPLEMENTARY INFORMATION: For further information, please see the information provided in the direct final action, with the same title, that is located in the “Rules and Regulations” section of this Federal Register publication.

Dated: June 30, 2000.
Bradley M. Campbell,
Regional Administrator, Region III.

[FR Doc. 00-18109 Filed 7-19-00; 8:45 am]

BILLING CODE 6560-50-P